DEPARTMENT OF THE INTERIOR

National Park Service

[NPS-NCR-WHHO-SSB-NPS0027381; PPNCWHHOP0, PPMVSIE1Z.I00000 (199); OMB Control Number 1024-0277]

Agency Information Collection Activities; National Park Service President's Park National Christmas Tree Music Program Application; Withdrawal

AGENCY: National Park Service, Interior.

ACTION: Notice of information collection; withdrawal.

SUMMARY: The National Park Service is withdrawing a notice requesting comments published in the May 14, 2019 issue of the Federal Register entitled “National Park Service President's Park National Christmas Tree Music Program Application”.

DATES: As of May 22, 2019 the document published at 84 FR 21354 on May 14, 2019, is withdrawn.

FOR FURTHER INFORMATION CONTACT: Phadrea Ponds, Acting NPS Information Collection Clearance Officer, 1201 Oakridge Drive, Fort Collins, CO 80525; at 970-267-7231.

SUPPLEMENTARY INFORMATION: The National Park Service wishes to inform the public it is withdrawing a 60-day public notice in the Federal Register titled, “National Park Service President's Park National Christmas Tree Music Program Application” (84 FR 21354) published on Wednesday, May 14, 2019. This notice was published in error and is being withdrawn immediately for public comment.

Phadrea Ponds,
Acting Information Collection Clearance Officer, National Park Service.

[FR Doc. 2019-10697 Filed 5-21-19; 8:45 am]

BILLING CODE 4312-52-P